DEPARTMENT OF HEALTH AND HUMAN SERVICES

Centers for Disease Control and Prevention

Disease, Disability, and Injury Prevention and Control Special Emphasis Panel: National Institute for Occupational Safety and Health (NIOSH) Prevention of Airborne Infections in Occupational Settings, RFA-OH-06-002

In accordance with section 10(a)(2) of the Federal Advisory Committee Act (Pub. L. 92-463), the Centers for Disease Control and Prevention (CDC) announces the following meeting:

Name: Disease, Disability, and Injury Prevention and Control Special Emphasis Panel (SEP): Prevention of Airborne Infections in Occupational Settings, RFA-OH-06-002.

Times And Dates:

7 p.m.-9 p.m., June 5, 2006 (Closed).

8 a.m.-5 p.m., June 6, 2006 (Closed).

8 a.m.-5 p.m., June 7, 2006 (Closed).

Place: Renaissance Mayflower Hotel, 1127 Connecticut Avenue, NW, Washington, DC 20036, telephone (202) 776-9279.

Status: The meeting will be closed to the public in accordance with provisions set forth in section 552b(c)(4) and (6), Title 5 U.S.C., and the Determination of the Director, Management Analysis and Services Office, CDC, pursuant to Public Law 92-463.

Matters to Be Discussed: The meeting will include the review, discussion, and evaluation of research grants in response to NIOSH RFA OH-06-002, Prevention of Airborne Infections in Occupational Settings.

For More Information Contact: Bernadine B. Kuchinski, Scientific Review Administrator, Robert A. Taft Laboratory, 4676 Columbia Parkway, MS C-7, Cincinnati, OH 45226, phone (513) 533-8511, e-mail bbk1@cdc.gov.

The Director, Management Analysis and Services Office, has been delegated the authority to sign Federal Register notices pertaining to announcements of meetings and other committee management activities, for both CDC and the Agency for Toxic Substances and Disease Registry.

Dated: May 8, 2006.
Alvin Hall,
Director, Management Analysis and Services Office, Centers for Disease Control and Prevention.

[FR Doc. E6-7319 Filed 5-12-06; 8:45 am]

BILLING CODE 4163-18-P